DEPARTMENT OF LABOR

Employment and Training Administration

Comment Request for Information Collection for ETA 581, Contribution Operations (OMB Control No. 1205-0178), Extension Without Revision

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)] (PRA). The PRA helps ensure that respondents can provide requested data in the desired format with minimal reporting burden (time and financial resources), collection instruments are clearly understood, and the impact of collection requirements on respondents can be properly assessed. Currently, ETA is soliciting comments concerning the collection process for data on unemployment insurance (UI) contribution operations, which expires February 28, 2015.

DATES: Submit written comments to the office listed in the addresses section below on or before September 2, 2014.

ADDRESSES: Send comments to Alexander R. Farach, U.S. Department of Labor, Employment and Training Administration, Office of Unemployment Insurance, 200 Constitution Avenue NW., Room S-4524, Washington, DC 20210, telephone number (202) 693-3741 (this is not a toll-free number) or by email: Farach.Alexander.R@dol.gov. To obtain a copy of the proposed information collection request (ICR), please contact the person listed above.

SUPPLEMENTARY INFORMATION:

I. Background

State UI agencies report data on the ETA 581 report in order to measure performance, accuracy and promptness in employer registrations, timeliness of filing contribution and wage reports by employers, collections (accounts receivable), and field audits of employers. Data on the report also measures state efforts to detect employer tax avoidance schemes, which is known as State Unemployment Tax Act (SUTA) Dumping. Section 303(k) of the Social Security Act requires states to detect SUTA Dumping. ETA uses the information reported on the report to monitor and measure program performance and make projections and forecasts in conjunction with the budgetary process.

II. Review Focus

The Department is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

Type of Review: Extension without revisions.

Title: Report ETA 581, Contribution Operations.

OMB Number: 1205-0178.

Affected Public: State governments.

Estimated Total Annual Respondents: 53 respondents.

Estimated Total Annual Responses: 53 respondents submit quarterly reports (212 reports are submitted annually).

Estimated Total Annual Burden Hours: 1,802 hours.

Total Estimated Annual Other Costs Burden: -0-.

We will summarize and/or include in the request for OMB approval of the ICR, the comments received in response to this comment request; they will also become a matter of public record.

Portia Wu,
Assistant Secretary for Employment and Training, Labor.

[FR Doc. 2014-15293 Filed 6-30-14; 8:45 am]

BILLING CODE 4510-FW-P